DEPARTMENT OF THE INTERIOR

Fish and Wildlife Service

50 CFR Parts 13, 17, and 402

[Docket No. FWS-R9-ES-2011-0099; FXES11150900000A2123]

RIN 1018-AY29

Endangered and Threatened Wildlife and Plants; Expanding Incentives for Voluntary Conservation Actions Under the Endangered Species Act

AGENCY: Fish and Wildlife Service, Interior.

ACTION: Advance notice of proposed rulemaking; extension of comment period.

SUMMARY: We, the U.S. Fish and Wildlife Service (Service), extend the deadline for submission of public comments to help us identify potential changes to our regulations that implement parts of the Endangered Species Act that would create incentives for landowners and others to take voluntary conservation actions to benefit species that may be likely to become threatened or endangered species. In particular, we seek comment on whether and how the Service can assure those who take such voluntary actions that the benefits of their actions will be recognized as offsetting the adverse effects of activities carried out after listing by that landowner or others. The practice of recognizing these actions, sometimes referred to as “advance mitigation” or “prelisting mitigation,” is intended to encourage early conservation efforts that could reduce or eliminate the need to list species as endangered or threatened. If you have previously submitted comments, please do not resubmit them, because we have already incorporated them into the public record and will fully consider them as we decide how we may propose changes to our regulations or policies.

DATES: Electronic comments via http://www.regulations.gov must be submitted by 11:59 p.m. Eastern Time on July 13, 2012. Comments submitted by mail must be postmarked no later than July 13, 2012.

ADDRESSES: You may submit comments by one of the following methods:

Electronically: Go to the Federal eRulemaking Portal: http://www.regulations.gov. In the Enter Keyword or ID box, enter FWS-R9-ES-2011-0099, which is the docket number for this notice. You may submit a comment by clicking on “Submit a Comment.”

By hard copy: Submit by U.S. mail or hand-delivery to: Public Comments Processing, Attn: FWS-R9-ES-2011-0099; Division of Policy and Directives Management; U.S. Fish and Wildlife Service; 4401 N. Fairfax Drive, MS 2042-PDM; Arlington, VA 22203.

We will post all information received on http://www.regulations.gov. This generally means that we will post any personal information you provide us (see Public Comments below for more details).

FOR FURTHER INFORMATION CONTACT: Jim Serfis, Chief, Office of Communications and Candidate Conservation, U.S. Fish and Wildlife Service, 4401 N. Fairfax Drive, Room 420, Arlington, VA 22203 (telephone 703-358-2171). If you use a telecommunications device for the deaf (TDD), call the Federal Information Relay Service (FIRS) at 800-877-8339.

SUPPLEMENTARY INFORMATION:

Public Comments

We are considering whether and how we could revise our regulations to create incentives for landowners and others to take voluntary conservation actions to benefit species that may be likely to become threatened or endangered species, including revisions that could recognize the benefits of such conservation actions as offsetting the adverse effects of actions carried out after listing by that landowner or others. We request comments, information, and suggestions from the public, other concerned governmental agencies, the scientific community, industry, private landowners, or any other interested parties to help us formulate any proposed regulation.

You may submit your comments and materials concerning this notice by one of the methods listed in ADDRESSES. We will not accept comments sent by email or fax or to an address not listed in ADDRESSES.

If you submit a comment via http://www.regulations.gov, your entire comment—including your personal identifying information—will be posted on the Web site. If you submit a hard copy comment that includes personal identifying information, you may request at the top of your document that we withhold this information from public review. However, we cannot guarantee that we will be able to do so. We will post all hardcopy comments on http://www.regulations.gov.

Comments and materials we receive, as well as supporting documentation we used in preparing this notice, will be available for public inspection on http://www.regulations.gov, or by appointment, during normal business hours, at the U.S. Fish and Wildlife Service (see FOR FURTHER INFORMATION CONTACT).

Background

On March 15, 2012 (77 FR 15352), we published an advance notice of proposed rulemaking and requested comments, information, and suggestions from the public on ways to improve upon current agreements or create new mechanisms to provide incentives to landowners who fund or voluntarily take conservation measures for candidates or other at-risk species. See that document for specific questions we asked and for more detailed information.

We have received a request for an extension of the comment period from the Association of Fish & Wildlife Agencies so that State fish and wildlife agencies could have adequate time to submit comments in response to the proposal. To accommodate this request, we extend the comment period for an additional 60 days.

Authority

This notice is published under the authority of the Endangered Species Act of 1973, as amended (16 U.S.C. 1531 et seq.).

Dated: May 7, 2012.
Gregory E. Siekaniec,
Acting Director, Fish and Wildlife Service.

[FR Doc. 2012-11676 Filed 5-11-12; 8:45 am]

BILLING CODE 4310-55-P